FEDERAL COMMUNICATIONS COMMISSION

Public Information Collections Approved by Office of Management and Budget

May 17, 2005.

SUMMARY: The Federal Communications Commission (“Commission”) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington, DC 20554, (202) 418-2247 or via the Internet at Dana.Jackson@fcc.gov.

SUPPLEMENTARY INFORMATION: OMB Control No.: 3060-0653.

OMB Approval Date: 05/02/2005.

Expiration Date: 05/31/2008.

Title: Section 64.703 (b) and (c), Consumer Information—Posting of Aggregators.

Form No.: N/A.

Estimated Annual Burden: 56,200 responses, 178,467 hours, 3.18 hours per response.

Needs and Uses: As required by 47 U.S.C. 226(c)(1)(A), 47 CFR 64.703(b) provides that aggregators (any person that, in the ordinary course of its operations, makes telephone available to the public or to transient users of its premises, for interstate telephone calls using a provider of operator services), shall post on or near the telephone instrument, in plain view of consumers: (1) The name, address, and toll-free telephone number of the provider of operator services (operator services means any interstate telecommunications service initiated from an aggregator location that includes, as a component, any automatic or live assistance to a consumer to arrange for billing or completion, or both, of an interstate telephone call through a method other than: (a) Automatic completion with billing to the telephone from which the call originated, or (b) completion through an access code used by the consumer, with billing to an account previously established with the carrier by the consumer)); (2) except for commercial mobile radio service aggregators, a written disclosure that the rates for all operator-assisted calls are available on request, and that consumers have a right to obtain access to the interstate common carrier of their choice and may contact their preferred interstate common carriers for information on accessing that carrier's service using that telephone; (3) in the case of a pay telephone, the local coin rate for the pay telephone location; and (4) the name and address of the Consumer & Governmental Affairs Bureau, of the Federal Communications Commission, to which the consumer may direct complaints regarding operator services.

47 CFR 64.703 (c) provides that postings required by this section shall be updated as soon as practicable following any change of the carrier presubscribed to provide interstate service at an aggregator location, but no later than 30 days following such change. Consumers will use this information to determine whether or not to use the services of the identified operator service provider.

Federal Communications Commission.
Marlene H. Dortch,
Secretary.

[FR Doc. 05-10338 Filed 5-24-05; 8:45 am]

BILLING CODE 6712-01-M